NUCLEAR REGULATORY COMMISSION

[NRC-2015-0269]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from November 10, 2015, to November 23, 2015. The last biweekly notice was published on November 24, 2015.

DATES: Comments must be filed by January 7, 2016. A request for a hearing must be filed February 8, 2016.

ADDRESSES: You may submit comments by any of the following methods (unless this document describes a different method for submitting comments on a specific subject):

• Federal Rulemaking Web site: Go to http://www.regulations.gov and search for Docket ID NRC-2015-0269. Address questions about NRC dockets to Carol Gallagher; telephone: 301-415-3463; email: Carol.Gallagher@nrc.gov.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Sandra Figueroa, Office of Nuclear Reactor Regulation, U.S. Nuclear Regulatory Commission, Washington, DC 20555-0001; telephone: 301-415-1262, email: sandra.figueroa@nrc.gov.

SUPPLEMENTARY INFORMATION:

I. Obtaining Information and Submitting Comments

A. Obtaining Information

Please refer to Docket ID NRC-2015-0269 when contacting the NRC about the availability of information for this action. You may obtain publicly-available information related to this action by any of the following methods:

• Federal Rulemaking Web site: Go to http://www.regulations.gov and search for Docket ID NRC-2015-0269.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2015-0269, facility name, unit number(s), application date, and subject in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated, or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing with respect to resolution of that person's admitted contentions, including the opportunity to present evidence and to submit a cross-examination plan for cross-examination of witnesses, consistent with NRC's regulations, policies and procedures.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission by December 28, 2015. The petition must be filed in accordance with the filing instructions in the “Electronic Submissions (E-Filing)” section of this document, and should meet the requirements for petitions for leave to intervene set forth in this section, except that under § 2.309(h)(2) a State, local governmental body, or Federally-recognized Indian Tribe, or agency thereof does not need to address the standing requirements in 10 CFR 2.309(d) if the facility is located within its boundaries. A State, local governmental body, Federally-recognized Indian Tribe, or agency thereof may also have the opportunity to participate under 10 CFR 2.315(c).

If a hearing is granted, any person who does not wish, or is not qualified, to become a party to the proceeding may, in the discretion of the presiding officer, be permitted to make a limited appearance pursuant to the provisions of 10 CFR 2.315(a). A person making a limited appearance may make an oral or written statement of position on the issues, but may not otherwise participate in the proceeding. A limited appearance may be made at any session of the hearing or at any prehearing conference, subject to the limits and conditions as may be imposed by the presiding officer. Persons desiring to make a limited appearance are requested to inform the Secretary of the Commission by January 25, 2016.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Arizona Public Service Company, et al., Docket Nos. STN 50-528, STN 50-529, and STN 50-530, Palo Verde Nuclear Generating Station, Units 1, 2, and 3, Maricopa County, Arizona

Date of amendment request: July 31, 2015. A publicly-available version is in ADAMS under Accession No. ML15218A300.

Description of amendment request: The amendments would revise the technical specifications (TSs) to permit the use of Risk-Informed Completion Times (RICTs) in accordance with Technical Specifications Task Force (TSTF) traveler TSTF-505-A, Revision 1, “Provide Risk-Informed Extended Completion Times—RITSTF [Risk-Informed TSTF] Initiative 4b.”

Basis for proposed no significant hazards consideration determination: As required by 10 CFR 50.91(a), the licensee has provided its analysis of the issue of no significant hazards consideration, which is presented below:

1. Does the proposed change involve a significant increase in the probability or consequences of an accident previously evaluated?

Response: No.

The proposed change permits the use of RICTs provided the associated risk is assessed and managed in accordance with the NRC-accepted RICT Program. The proposed use of RICTs does not involve a significant increase in the probability of an accident previously evaluated because the change only affects TS Conditions, Required Actions and CTs [Completion Times (CTs)] associated with risk informed technical specifications and does not involve changes to the plant, its modes of operation, or TS mode applicability. The proposed license amendment references regulatory commitments to achieve the baseline [probabilistic risk assessment (PRA)] risk metrics specified in the NRC model evaluation. The changes proposed by regulatory commitments will be implemented under the requirements of 10 CFR 50.59 without the need for prior NRC approval. The proposed change does not increase the consequences of an accident because the accident mitigation functions of the affected systems, structures, or components (SSCs) are not changed.

Therefore, the proposed change does not involve a significant increase in the probability or consequences of an accident previously evaluated.

2. Does the proposed change create the possibility or different kind of accident from any accident previously evaluated?

Response: No.

The proposed change permits the use of RICTs provided the associated risk is assessed and managed in accordance with the NRC-accepted RICT Program. The proposed use of RICTs does not create the possibility of a new or different kind of accident from any accident previously evaluated because the change only affects TS Conditions, Required Actions and CTs associated with risk informed technical specifications. The proposed change does not involve a physical alteration of the plant and does not involve installation of new or different kind of equipment. The proposed license amendment references regulatory commitments to achieve the baseline PRA risk metrics specified in the NRC model evaluation. The changes proposed by regulatory commitments will be implemented under the requirements of 10 CFR 50.59 without the need for prior NRC approval. The proposed change does not alter the accident mitigation functions of the affected SSCs and does not introduce new or different SSC failure modes than already evaluated.

Therefore, the proposed change does not create the possibility of a new or different kind of accident from any accident previously evaluated.

3. Does the proposed change involve a significant reduction in a margin of safety?

Response: No.

The proposed change permits the use of RICTs provided the risk levels associated with inoperable equipment within the scope of the RICT program are assessed and managed in accordance with the NRC approved RICT Program. The proposed change implements a risk-informed Configuration Risk Management Program (CRMP) to assure that adequate margins of safety are maintained. Application of these new specifications and the CRMP considers cumulative effects of multiple systems or components being out of service and does so more effectively than the current TS. In this regard, the implementation of the CRMP is considered an improvement in safety.

Therefore, the proposed change does not involve a significant reduction in a margin of safety.

The NRC staff has reviewed the licensee's analysis and, based on that review, it appears that the three standards of 10 CFR 50.92(c) are satisfied. Therefore, the NRC staff proposes to determine that the request for amendments involves no significant hazards consideration.

Attorney for licensee: Michael G. Green, Senior Regulatory Counsel, Pinnacle West Capital Corporation, P.O. Box 52034, Mail Station 8695, Phoenix, Arizona 85072-2034.

NRC Branch Chief: Robert J. Pascarelli.

Arizona Public Service Company, et al., Docket Nos. STN 50-528, STN 50-529, and STN 50-530, Palo Verde Nuclear Generating Station, Units 1, 2, and 3, Maricopa County, Arizona

Date of amendment request: October 9, 2015. A publicly-available version is in ADAMS under Accession No. ML15293A335.

Description of amendment request: The amendments would revise the emergency action levels from a scheme based on Nuclear Energy Institute (NEI) 99-01, Revision 5, “Methodology for Development of Emergency Action Levels,” to a scheme provided in the subsequent Revision 6 of NEI 99-01.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to the Palo Verde Nuclear Generating Station (PVNGS) emergency action levels (EALs) do not impact the physical function of plant structures, systems, or components (SSC) or the manner in which SSCs perform their design function. The proposed changes neither adversely affect accident initiators or precursors, nor alter design assumptions. The proposed changes do not alter or prevent the ability of SSCs to perform their intended function to mitigate the consequences of an initiating event within assumed acceptance limits. No operating procedures or administrative controls that function to prevent or mitigate accidents are affected by the proposed changes.

Therefore, the proposed changes do not involve a significant increase in the probability or consequences of an accident previously evaluated.

2. Does the proposed amendment create the possibility or different kind of accident from any accident previously evaluated?

Response: No.

The proposed changes do not involve a physical alteration of the plant (i.e., no new or different type of equipment will be installed, modified, or removed) or a change in the method of plant operation. The proposed changes will not introduce failure modes that could result in a new accident, and the change does not alter assumptions made in the safety analysis. The proposed changes to the PVNGS emergency action levels are not initiators of any accidents.

Therefore, the proposed change does not create the possibility of a new or different kind of accident from accidents previously evaluated.

3. Does the proposed amendment involve a significant reduction in a margin of safety?

Response: No.

Margin of safety is associated with the ability of the fission product barriers (i.e., fuel cladding, reactor coolant system pressure boundary, and containment structure) to limit the level of radiation dose to the public. The proposed changes do not impact operation of the plant or its response to transients or accidents. The changes do not affect the Technical Specifications or the operating license. The proposed changes do not involve a change in the method of plant operation, and no accident analyses will be affected by the proposed changes. Additionally, the proposed changes will not relax any criteria used to establish safety limits and will not relax any safety system settings. The safety analysis acceptance criteria are not affected by these changes. The proposed changes will not result in plant operation in a configuration outside the design basis. The proposed changes do not adversely affect systems that respond to safely shut down the plant and to maintain the plant in a safe shutdown condition. The Emergency Plan will continue to activate an emergency response commensurate with the extent of degradation of plant safety.

Therefore, the proposed change does not involve a significant reduction in the margin of safety.

The NRC staff has reviewed the licensee's analysis and, based on that review, it appears that the three standards of 10 CFR 50.92(c) are satisfied. Therefore, the NRC staff proposes to determine that the request for amendments involves no significant hazards consideration.

Attorney for licensee: Michael G. Green, Senior Regulatory Counsel, Pinnacle West Capital Corporation, P.O. Box 52034, Mail Station 8695, Phoenix, Arizona 85072-2034.

NRC Branch Chief: Robert J. Pascarelli.

Dominion Nuclear Connecticut, Inc., Docket No. 50-336, Millstone Power Station, Unit No. 2 (MPS2), New London County, Connecticut

Date of amendment request: September 1, 2015. A publicly-available version is in ADAMS under Accession No. ML15253A205.

Description of amendment request: The amendment would revise Technical Specification (TS) 6.9.1.8.b, “Core Operating Limits Report,” to add Framatome-ANP (AREVA) topical reports EMF-2328(P)(A), Supplement 1, “PWR [pressurized water reactor] Small Break LOCA [loss of coolant accident] Evaluation Model, S-RELAP5 Based,” and EMF-92-116(P)(A), Supplement 1, “Generic Mechanical Design Criteria for PWR Fuel Designs,” for referencing as analytical methods used to determine MPS2 core operating limits.

Basis for proposed no significant hazards consideration determination: As required by 10 CFR 50.91(a), the licensee has provided its analysis of the issue of no significant hazards consideration, which is presented below:

1. Does the proposed [amendment] involve a significant increase in the probability or consequences of an accident previously evaluated?

Response: No.

The proposed changes to TS 6.9.1 .8.b permit the use of the recent supplements to the appropriate methodologies to analyze accidents to ensure that the plant continues to meet applicable design criteria and safety analysis acceptance criteria. The proposed changes to the list of NRC-approved methodologies listed in TS 6.9.1.8.b has no impact on plant operation and configuration. The list of methodologies in TS 6.9.1.8.b does not impact either the initiation of an accident or the mitigation of its consequences.

The revised [small-break loss-of-coolant accident (SBLOCA)] analysis demonstrates [Millstone Power Station, Unit 2 (MPS2)] continues to satisfy the 10 CFR 50.46 ECCS [emergency core cooling system] performance acceptance criteria using an NRC-approved evaluation model.

Therefore, the proposed change does not involve a significant increase in the probability or consequences of an accident previously evaluated.

2. Does the proposed [amendment] create the possibility of a new or different kind of accident from any previously evaluated?

Response: No.

The proposed changes have no impact on any plant configuration or system performance. There is no change to the design function or operation of the plant. The proposed changes will not create the possibility of a new or different accident due to credible new failure mechanisms, malfunctions, or accident initiators not previously considered. There is no change to the parameters within which the plant is normally operated, and thus, the possibility of a new or different type of accident is not created.

Therefore, the proposed change does not create the possibility of a new or different kind of accident from those previously evaluated within the [final safety analysis report (FSAR)].

3. Does the proposed [amendment] involve a significant reduction in a margin of safety?

Response: No.

The proposed changes have no impact on any plant configuration or system performance. Approved methodologies will be used to ensure that the plant continues to meet applicable design criteria and safety analysis acceptance criteria.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

Acting NRC Branch Chief: Travis L. Tate.

Duke Energy Progress Inc., Docket No. 50-400, Shearon Harris Nuclear Power Plant, Unit 1, New Hill, North Carolina

Date of amendment request: August 18, 2015, as supplemented by letter dated September 29, 2015. Publicly-available versions are in ADAMS under Accession Nos. ML15236A265 and ML15272A443, respectively.

Description of amendment request: The amendment would revise the Shearon Harris Nuclear Power Plant, Unit 1 Technical Specifications (TSs) by relocating specific surveillance frequencies to a licensee-controlled program with the implementation of Nuclear Energy Institute (NEI) 04-10, “Risk-Informed Technical Specifications Initiative 5b, Risk-Informed Method for Control of Surveillance Frequencies.” Additionally, the change would add a new program, the Surveillance Frequency Control Program, to TS Section 6, “Administrative Controls.” The changes are consistent with the NRC-approved Technical Specification Task Force (TSTF) Improved Standard Technical Specifications Change Traveler (TSTF)-425, Revision 3, “Relocate Surveillance Frequencies to Licensee Control—RITSTF [Risk-Informed Technical Specification Task Force] Initiative 5b.”

Basis for proposed no significant hazards consideration determination: As required by 10 CFR 50.91(a), the licensee has provided its analysis of the issue of no significant hazards consideration, which is presented below:

1. Does the proposed change involve a significant increase in the probability or consequences of any accident previously evaluated?

Response: No.

The proposed change relocates the specified frequencies for periodic surveillance requirements to licensee control under a new Surveillance Frequency Control Program. Surveillance frequencies are not an initiator to any accident previously evaluated. As a result, the probability of any accident previously evaluated is not significantly increased. The systems and components required by the technical specifications for which the surveillance frequencies are relocated are still required to be operable, meet the acceptance criteria for the surveillance requirements, and be capable of performing any mitigation function assumed in the accident analysis.

As a result, the consequences of any accident previously evaluated are not significantly increased.

2. Does the proposed change create the possibility of a new or different kind of accident from any previously evaluated?

Response: No.

No new or different accidents result from utilizing the proposed change. The changes do not involve a physical alteration of the plant (i.e., no new or different type of equipment will be installed) or a change in the methods governing normal plant operation. In addition, the changes do not impose any new or different requirements. The changes do not alter assumptions made in the safety analysis. The proposed changes are consistent with the safety analysis assumptions and current plant operating practice.

Therefore, the proposed changes do not create the possibility of a new or different kind of accident from any accident previously evaluated.

3. Does the proposed change involve a significant reduction in the margin of safety?

Response: No.

The design, operation, testing methods, and acceptance criteria for systems, structures, and components (SSCs), specified in applicable codes and standards (or alternatives approved for use by the NRC) will continue to be met as described in the plant licensing basis (including the final safety analysis report and bases to TS), since these are not affected by changes to the surveillance frequencies. Similarly, there is no impact to safety analysis acceptance criteria as described in the plant licensing basis. To evaluate a change in the relocated surveillance frequency, Duke Energy will perform a probabilistic risk evaluation using the guidance contained in NRC approved NEI 04-10, Revision 1, in accordance with the TS Surveillance Frequency Control Program. NEI 04-10, Revision 1, methodology provides reasonable acceptance guidelines and methods for evaluating the risk increase of proposed changes to surveillance frequencies consistent with Regulatory Guide 1.177.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Lara S. Nichols, Deputy General Counsel, Duke Energy Corporation, 550 South Tryon Street, Mail Code DEC45A, Charlotte, NC 28202.

NRC Branch Chief: Benjamin G. Beasley.

Exelon Generation Company, LLC, Docket Nos. 50-317 and 50-318, Calvert Cliffs Nuclear Power Plant, Units 1 and 2, Calvert County, Maryland

Exelon Generation Company, LLC, Docket No. 72-8, Calvert Cliffs Independent Spent Fuel Storage Installation, Calvert County, Maryland

Exelon Generation Company, LLC, Docket Nos. 50-220 and 50-410, Nine Mile Point Nuclear Station, Units 1 and 2, Oswego County, New York

Exelon Generation Company, LLC, Docket No. 50-244, R. E. Ginna Nuclear Power Plant, Wayne County, New York

Date of amendment request: July 29, 2015, as supplemented by letter dated November 4, 2015. A publicly-available version is in ADAMS under Accession Nos. ML15210A314 and ML15309A131, respectively.

Description of amendment request: The proposed change would revise the Emergency Response Organization (ERO) requalification training frequency for the affected facilities.

Basis for proposed no significant hazards consideration determination: As required by 10 CFR 50.91(a), an analysis of the issue of no significant hazards consideration is presented below:

Exelon has evaluated the proposed change to the affected sites' Emergency Plans and determined that the change does not involve a Significant Hazards Consideration. In support of this determination, an evaluation of each of the three (3) standards, set forth in 10 CFR 50.92, “Issuance of amendment,” is provided below.

1. Does the proposed amendment involve a significant increase in the probability or consequences of an accident previously evaluated?

Response: No.

The proposed change does not increase the probability or consequences of an accident. The proposed change does not involve the modification of any plant equipment or affect plant operation. The proposed change will have no impact on any safety-related Structures, Systems, or Components. The proposed change only affects the administrative aspects of the annual ERO requalification training frequency requirements and not the content of the training.

The proposed change would revise the ERO requalification frequency from an annual basis to once per calendar year not to exceed 18 months between training sessions as defined in the Exelon Nuclear Radiological Emergency Plans for the affected plants. The proposed change would align the Exelon fleet under one standard regarding the annual requalification training frequency of personnel assigned Exelon ERO positions.

Therefore, the proposed change to the Emergency Plan requalification training frequency for the affected sites does not involve a significant increase in the probability or consequences of an accident previously evaluated.

2. Does the proposed amendment create the possibility of a new or different kind of accident from any accident previously evaluated?

Response: No.

The proposed change has no impact on the design, function, or operation of any plant systems, structures, or components. The proposed change does not affect plant equipment or accident analyses. The proposed change only affects the administration aspects of the annual emergency response organization requalification training frequency requirements. There are no changes in the content of the training being proposed. The proposed change is to align the Exelon fleet under one standard regarding the annual requalification training frequency of personnel assigned Exelon ERO positions.

Therefore, the proposed change to the Emergency Plan requalification training frequency for the affected sites does not create the possibility of a new or different kind of accident from any accident previously evaluated.

3. Does the proposed amendment involve a significant reduction in a margin of safety?

Response: No.

The proposed change does not adversely affect existing plant safety margins or the reliability of the equipment assumed to operate in the safety analyses. There is no change being made to safety analysis assumptions, safety limits, or limiting safety system settings that would adversely affect plant safety as a result of the proposed change. Margins of safety are unaffected by the proposed change to the frequency in the ERO requalification training requirements. The proposed change only affects the administrative aspects of the annual ERO requalification training frequency requirements and does not change the training content.

Therefore, the proposed change to the Emergency Plan requalification training frequency for the affected sites does not involve a significant reduction in a margin of safety.

The NRC staff has reviewed the licensee's analysis and, based on this review, it appears that the three standards of 10 CFR 50.92(c) are satisfied. Therefore, the NRC staff proposes to determine that the requested amendments involve no significant hazards consideration.

Attorney for licensee: Bradley Fewell, Associate General Counsel, Exelon Generation Company, LLC, 4300 Winfield Road, Warrenville, IL 60555.

Acting NRC Branch Chief: Justin C. Poole.

Exelon Generation Company, LLC, and PSEG Nuclear LLC, Docket Nos. 50-277 and 50-278, Peach Bottom Atomic Power Station, Units 2 and 3, York and Lancaster Counties, Pennsylvania

Date of amendment request: October 2, 2015. A publicly-available version is in ADAMS under Accession No. ML15275A265.

Description of amendment request: The proposed amendments would: (1) Revise the allowable test pressure band for the technical specification (TS) surveillance requirement (SR) pump flow testing of the high pressure coolant injection (HPCI) system and the reactor core isolation (RCIC) system; (2) revise the surveillance frequency requirements for verifying the sodium pentaborate enrichment of the standby liquid control (SLC) system; and (3) delete SRs associated with verifying the manual transfer capability of the normal and alternate power supplies for certain motor-operated valves associated with the suppression pool spray (SPS) and drywell spray (DWS) sub-systems of the residual heat removal (RHR) system.

Basis for proposed no significant hazards consideration determination: As required by 10 CFR 50.91(a), the licensee has provided its analysis of the issue of no significant hazards consideration, which is presented below:

1. Do the proposed changes involve a significant increase in the probability or consequences of an accident previously evaluated?

Response: No.

The proposed changes for testing the HPCI System and the RCIC System at a lower pressure value do not affect the ability of the systems to perform their design functions. Testing at a lower pressure prevents unnecessary reactivity and reactor pressure perturbations and is considered to be conservative with respect to proving operability of these systems.

The revision to the SLC system SR 3.1.7.10 and deletion of the SPS and DWS sub-system SRs 3.6.2.4.3 and 3.6.2.5.3 do not affect the ability of these systems to perform their design functions. These proposed changes are administrative in nature and have no effect on plant operation.

The proposed changes do not adversely affect plant operations, design functions or analyses that verify the capability of systems, structures and components to perform their design functions. Performances of the involved SRs are not initiators of any accident previously evaluated.

Therefore, the proposed changes do not involve a significant increase in the probability or consequences of an accident previously evaluated.

2. Do the proposed changes create the possibility of a new or different kind of accident from any accident previously evaluated?

Response: No.

The proposed changes for testing the HPCI System and the RCIC System at a lower pressure value do not alter the system design, create new failure modes, or change any modes of operation. The proposed changes do not involve a physical alteration of the plant; and no new or different kind of equipment will be installed.

The revision to the SLC system SR 3.1.7.10 and deletion of the SPS and DWS sub-system SRs 3.6.2.4.3 and 3.6.2.5.3 are administrative in nature and have no effect on plant operation. These proposed changes do not alter the physical design, safety limits, or safety analysis assumptions associated with the operation of the plant.

These proposed changes do not introduce any new accident initiators, nor do they reduce or adversely affect the capabilities of any plant system, structure, or component to perform their safety function.

Therefore, the proposed changes do not create the possibility of a new or different kind of accident from any accident previously evaluated.

3. Do the proposed changes involve a significant reduction in a margin of safety?

Response: No.

The proposed changes for testing the HPCI System and the RCIC System at a lower pressure value do not affect the ability of the systems to perform their design functions. Testing at a lower pressure prevents unnecessary reactivity and reactor pressure perturbations and is considered to be conservative with respect to proving operability of these systems. The revision to the SLC system SR 3.1.7.1 O and deletion of the SPS and DWS sub-system SRs 3.6.2.4.3 and 3.6.2.5.3 are administrative in nature and have no effect on plant operation. The HPCI, RCIC, SLC and RHR systems will continue to be demonstrated OPERABLE by performance of the revised and retained SRs. The proposed changes conform to NRC regulatory requirements regarding the content of plant TS.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: J. Bradley Fewell, Esquire, Vice President and Deputy General Counsel, Exelon Generation Company, LLC, 4300 Winfield Road, Warrenville, IL 60555.

NRC Branch Chief: Douglas A. Broaddus.

South Carolina Electric and Gas Company Docket Nos.: 52-027 and 52-028, Virgil C. Summer Nuclear Station, Units 2 and 3, Fairfield County, South Carolina

Date of amendment request: November 4, 2015. A publicly-available version is in ADAMS under Accession No. ML15288A549.

Description of amendment request: The proposed change, if approved, to depart from certified AP1000 Tier 1 information and from the plant-specific Tier 2 Updated Final Safety Analysis Report (UFSAR) information by reconfiguring the signal processing in the two processor cabinets currently planned for the Annex Building and relocating the cabinets to the Auxiliary Building. The proposed changes also change the hardware and reduce the number of functions of the cabinet as well as changing the power supply to one backed by separate diesel generators.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to the design of the diverse actuation system (DAS) conform to the DAS fire-induced spurious actuation (smart fire) of the squib valves and single point failure criteria. The DAS is a nonsafety-related diverse backup to the safety-related protection and safety monitoring system (PMS). The proposed changes do not involve any accident initiating component/system failure or event, thus the probabilities of the accidents previously evaluated are not affected. The affected equipment does not adversely affect or interact with safety-related equipment or a radioactive material barrier, and this activity does not involve the containment of radioactive material. Thus, the proposed changes would not affect any safety-related accident mitigating function. The radioactive material source terms and release paths used in the safety analyses are unchanged, thus the radiological releases in the Updated Final Safety Analysis Report (UFSAR) accident analyses are not affected. Therefore, the proposed changes do not involve a significant increase in the probability or consequences of an accident previously evaluated.

2. Does the proposed amendment create the possibility of a new or different kind of accident from any accident previously evaluated?

Response: No.

The proposed changes to the design of the DAS do not alter the performance of the DAS as a nonsafety-related diverse backup to the PMS. The new configuration within two independent and separate processor cabinets located in the Auxiliary Building do not adversely affect any safety-related equipment or function, therefore no new accident initiator or failure mode is created. The changes to provide independent power supplies to the separate processor cabinets do not have any impact on any safety-related equipment or function, and no new accident or failure mode is created. The proposed changes do not create a new fault or sequence of events that could lead to a radioactive release. The changes do not adversely affect any safety-related equipment or structure. Therefore, the proposed changes do not create the possibility of a new or different kind of accident from any accident previously evaluated.

3. Does the proposed amendment involve a significant reduction in a margin of safety?

Response: No.

The proposed changes to the design of the DAS do not affect any safety-related equipment or function. The proposed changes do not have any adverse effect on the ability of safety-related structures, systems, or components to perform their design basis functions. No safety analysis or design basis acceptance limit/criterion is challenged or exceeded by the proposed changes, thus no margin of safety is reduced. Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW, Washington, DC 20004-2514.

NRC Branch Chief: Lawrence J. Burkhart.

Southern Nuclear Operating Company, Inc. Docket Nos. 52-025 and 52-026, Vogtle Electric Generating Plant, Units 3 and 4, Burke County, Georgia

Date of amendment request: October 15, 2015. A publicly-available version is in ADAMS under Accession No. ML15288A549.

Description of amendment request: The amendment request proposes changes to the Diverse Actuation System (DAS) control cabinets. Because, this proposed change requires a departure from Tier 1 information in the Westinghouse Advanced Passive 1000 Design Control Document (DCD), the licensee also requested an exemption from the requirements of the Generic DCD Tier 1 in accordance with 10 CFR 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to the design of the diverse actuation system (DAS) conform to the DAS fire-induced spurious actuation (smart fire) of the squib valves and single point failure criteria. The DAS is a nonsafety-related diverse backup to the safety-related protection and safety monitoring system (PMS). The proposed changes do not involve any accident initiation component/system failure or event, thus the probabilities of the accidents previously evaluated are not affected. The affected equipment does not adversely affect or interact with safety-related equipment or a radioactive material barrier, and this activity does not involve the containment of radioactive material. Thus, the proposed changes would not affect any safety-related accident mitigating function. The radioactive material source terms and release paths used in the safety analyses are unchanged, thus the radiological releases in the Updated Final Safety Analysis Report (UFSAR) accident analyses are not affected.

Therefore, the proposed amendment does not involve a significant increase in the probability or consequences of an accident previously evaluated.

2. Does the proposed amendment create the possibility of a new or different kind of accident from any accident previously evaluated?

Response: No.

The proposed changes to the design of the DAS do not alter the performance of the DAS as a nonsafety-related diverse backup to the PMS. The new configuration within two independent and separate processor cabinets located in the Auxiliary Building do not adversely affect any safety-related equipment or function, therefore no new accident initiator or failure mode is created. The changes to provide independent power supplies to the separate processor cabinets do not have any impact any safety-related equipment or function, and no new accident or failure mode is created. The proposed changes do not create a new fault or sequence of events that could lead to a radioactive release. The changes do not adversely affect any safety-related equipment or structure.

Therefore, the proposed changes does not create the possibility of a new or different kind of accident from any previously evaluated.

3. Does the proposed amendment involve a significant reduction in a margin of safety?

Response: No.

The proposed changes to the design of the DAS do not affect any safety-related equipment or function. The proposed changes do not have any adverse effect on the ability of safety-related structures, systems, or components to perform their design basis functions. No safety analysis or design basis acceptance limit/criterion is challenged or exceeded by the proposed changes, thus no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Lawrence Burkhart.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commissions related letter, Safety Evaluation and/or Environmental Assessment as indicated. All of these items can be accessed as described in the “Obtaining Information and Submitting Comments” section of this document.

Entergy Nuclear Operations, Inc., Docket No. 50-255, Palisades Nuclear Plant, Van Buren County, Michigan

Date of application for amendment: July 29, 2014, as supplemented by letters dated February 13, April 1, and August 14, 2015.

Brief description of amendment: The amendment revised Renewed Facility Operating License No. DPR-20 and approved the request to implement 10 CFR 50.61a, “Alternate fracture toughness requirements for protection against pressurized thermal shock events.”

Date of issuance: November 23, 2015.

Effective date: As of the date of issuance and shall be implemented within 120 days.

Amendment No.: 257. A publicly-available version is in ADAMS under Accession No. ML15209A791; documents related to this amendment are listed in the Safety Evaluation enclosed with the amendment.

Renewed Facility Operating License No. DPR-20: Amendment revised the Renewed Facility Operating License.

Date of initial notice in Federal Register: September 30, 2014 (79 FR 58814). The supplemental letters dated February 13, April 1, and August 14, 2015, provided additional information that clarified the application, did not expand the scope of the application as originally noticed, and did not change the NRC staff's original proposed no significant hazards consideration determination as published in the Federal Register.

The Commission's related evaluation of the amendment is contained in a Safety Evaluation dated November 23, 2015.

No significant hazards consideration comments received: Yes. The Safety Evaluation dated November 23, 2015, provides the discussion of the comments received from Beyond Nuclear.

Entergy Nuclear Operations, Inc., Docket No. 50-255, Palisades Nuclear Plant, Van Buren County, Michigan

Date of application for amendment: November 12, 2014, as supplemented by letter dated January 28, 2015.

Brief description of amendment: The amendment approved the licensee's proposed revisions to information in the Final Safety Analysis Report regarding the reactor pressure vessel (RPV) Charpy upper-shelf energy (USE) requirements in part 50, “Domestic Licensing of Production and Utilization Facilities,” appendix G, “Fracture Toughness Requirements,” IV.A.1. The change updates the analysis for satisfying the RPV Charpy USE requirements through the end of the renewed operating license.

Date of issuance: November 23, 2015.

Effective date: As of the date of issuance.

Amendment No.: 258. A publicly-available version is in ADAMS under Accession No. ML15106A682; documents related to this amendment are listed in the Safety Evaluation enclosed with the amendment.

Renewed Facility Operating License No. DPR-20: Amendment revised the Renewed Facility Operating License.

Date of initial notice in Federal Register: January 6, 2015 (80 FR 523). The supplemental letter dated January 28, 2015, provided additional information that clarified the application, did not expand the scope of the application as originally noticed, and did not change the NRC staff's original proposed no significant hazards consideration determination as published in the Federal Register.

The Commission's related evaluation of the amendment is contained in a Safety Evaluation dated November 23, 2015.

No significant hazards consideration comments received: No.

Entergy Operations, Inc., Docket No. 50-382, Waterford Steam Electric Station, Unit 3, St. Charles Parish, Louisiana

Date of amendment request: July 2, 2015, as supplemented by letters dated August 14, September 23, and October 8, 2015.

Brief description of amendment: The amendment revised the limiting condition for operation of Technical Specification 3.1.3.4 to increase the maximum individual control element assembly (CEA) drop time from the fully withdrawn position to 90 percent inserted from less than or equal to 3.2 seconds to less than or equal to 3.5 seconds and increase the maximum arithmetic average of all CEA drop times from less than or equal to 3.0 seconds to less than or equal to 3.2 seconds. The licensee also proposed to update the Final Safety Analysis Report to account for the CEA drop times increase.

Date of issuance: November 13, 2015.

Effective date: As of the date of issuance and shall be implemented 60 days from the date of issuance.

Amendment No.: 246. A publicly-available version is in ADAMS under Accession No. ML15289A143; documents related to this amendment are listed in the Safety Evaluation enclosed with the amendment.

Facility Operating License No. NPF-38: The amendment revised the Facility Operating License and Technical Specifications.

Date of initial notice in Federal Register: September 8, 2015 (80 FR 53892). The supplements dated September 23, and October 8, 2015, provided additional information that clarified the application, did not expand the scope of the application as originally noticed, and did not change the staff's original proposed no significant hazards consideration determination as published in the Federal Register.

The Commission's related evaluation of the amendment is contained in a Safety Evaluation dated November 13, 2015.

No significant hazards consideration comments received: Yes. The comments received on Amendment No. 246 are addressed in the Safety Evaluation dated November 13, 2015.

Exelon Generation Company, LLC, Docket No. 50-373 and 50-374, LaSalle County Station, Units 1 and 2, LaSalle County, Illinois

Date of amendment request: July 12, 2012, as supplemented by letters dated September 17, 2012, January 18, 2013, February 11, 2013, October 4, 2013, December 4, 2014, and April 15, 2015.

Brief description of amendment: The amendment adds a new action statement to Technical Specification 3.7.3, requiring performance of Surveillance Requirement (SR) 3.7.3.1 once per hour if Core Standby Cooling System Pond temperature is ≥101 °F, and also modifies the temperature limit specified in SR 3.7.3.1 from “≤101.25 °F” to “within the limits of Figure 3.7.3-1,” newly added by this amendment.

Date of issuance: November 19, 2015.

Effective date: As of the date of issuance and shall be implemented within 30 days of issuance.

Amendment No.: 218 and 204. A publicly-available version is in ADAMS under Accession No. ML15202A578; documents related to this amendment are listed in the Safety Evaluation enclosed with the amendment.

Facility Operating License No. NPF-11 and NPF-18: Amendment revised the Facility Operating Licenses and Technical Specifications.

Date of initial notice in Federal Register: August 5, 2014 (79 FR 45489). The supplemental letters dated December 4, 2014, and April 15, 2015, provided additional information that clarified the application, did not expand the scope of the application as originally noticed, and did not change the staff's original proposed no significant hazards consideration determination as published in the Federal Register.

The Commission's related evaluation of the amendment is contained in a Safety Evaluation dated November 19, 2015.

No significant hazards consideration comments received: No.

Florida Power & Light Company, Docket Nos. 50-250 and 50-251, Turkey Point Nuclear Generating, Unit Nos. 3 and 4, Miami-Dade County, Florida

Date of application for amendments: November 13, 2014.

Brief description of amendments: The amendments revised Technical Specification (TS) 3/4.5.2, “ECCS [Emergency Core Cooling System] Subsystems—Tavg [average temperature] Greater Than or Equal to 350 °F [degrees Fahrenheit],” to correct non-conservative TS requirements. The amendments also made editorial changes to the TSs.

Date of issuance: November 9, 2015.

Effective date: As of the date of issuance and shall be implemented within 60 days of issuance.

Amendment Nos.: 267 and 262. The amendments are available in ADAMS under Accession No. ML15294A443; documents related to these amendments are listed in the Safety Evaluation (SE) enclosed with the amendments.

Renewed Facility Operating License Nos. DPR-31 and DPR-41: Amendments revised the TSs.

Date of initial notice in Federal Register: March 3, 2015 (80 FR 11478).

The Commission's related evaluation of the amendments is contained in an SE dated November 9, 2015.

No significant hazards consideration comments received: No.

Omaha Public Power District, Docket No. 50-285, Fort Calhoun Station, Unit No. 1, Washington County, Nebraska

Date of amendment request: November 25, 2014. A redacted version was provided by letter dated April 20, 2015.

Brief description of amendment: The amendment revised the Cyber Security Plan Implementation Milestone 8 completion date and the physical protection license condition.

Date of issuance: November 19, 2015.

Effective date: As of the date of issuance and shall be implemented within 60 days from the date of issuance.

Amendment No.: 284. A publicly-available version is in ADAMS under Accession No. ML15294A279; documents related to this amendment are listed in the Safety Evaluation enclosed with the amendment.

Renewed Facility Operating License No. DPR-40: The amendment revised the Operating License.

Date of initial notice in Federal Register: July 7, 2015 (80 FR 38775).

The Commission's related evaluation of the amendment is contained in a safety evaluation dated November 19, 2015.

No significant hazards consideration comments received: No.

Dated at Rockville, Maryland, this 27th day of November 2015.
For the Nuclear Regulatory Commission.
Anne T. Boland,
Director, Division of Operating Reactor Licensing, Office of Nuclear Reactor Regulation.

[FR Doc. 2015-30680 Filed 12-7-15; 8:45 am]

BILLING CODE 7590-01-P